DEPARTMENT OF STATE

[Public Notice 8696 ]

Notice of Receipt of Cultural Property Request From the Government of the Arab Republic of Egypt

Egypt, concerned that its cultural heritage is in jeopardy from pillage, made a request to the Government of the United States under Article 9 of the 1970 UNESCO Convention on the Means of Prohibiting and Preventing the Illicit Import, Export and Transfer of Ownership of Cultural Property. The United States Department of State received this request in April 2014. Egypt's request seeks U.S. import restrictions on archaeological and ethnological material from Egypt representing its prehistoric through Ottoman heritage.

The specific contents of this request are treated as confidential government-to-government information, consistent with applicable U.S. law.

Information about U.S. implementation of the 1970 UNESCO Convention can be found at http://eca.state.gov/cultural-heritage-center. A public summary of Egypt's request will be posted on that Web site.

Dated: April 8, 2014.
Kelly Keiderling,
Acting Assistant Secretary, Bureau of Educational and Cultural Affairs, Department of State.

[FR Doc. 2014-08657 Filed 4-15-14; 8:45 am]

BILLING CODE 4710-05-P